DEPARTMENT OF TRANSPORTATION

Federal Aviation Administration

Noise Exposure Map Notice; Tampa International Airport (TPA) Airport, Tampa, Florida

AGENCY: Federal Aviation Administration, Department of Transportation (DOT).

ACTION: Notice.

SUMMARY: The Federal Aviation Administration (FAA) announces its determination that the Noise Exposure Maps (NEMs) submitted by the Hillsborough County Aviation Authority for Tampa International Airport under the provisions of the Aviation Safety and Noise Abatement Act and are in compliance with applicable requirements.

DATES: The effective date of the FAA's compliance determination on the NEMs is April 14, 2022.

FOR FURTHER INFORMATION CONTACT: Amy Reed, Federal Aviation Administration, Orlando Airports District Office, 8427 SouthPark Circle, Suite 524, Orlando, Florida 32819, (407) 487-7297.

SUPPLEMENTARY INFORMATION: This notice announces that the FAA finds that the NEMs submitted for the Tampa International Airport (TPA) are in compliance with applicable requirements of title 14 Code of Federal Regulations (CFR) part 150, effective April 14, 2022. Under 49 U.S.C. 47503 of the Aviation Safety and Noise Abatement Act (“the Act”), an airport operator may submit to the FAA NEMs which meet applicable regulations and which depict non-compatible land uses as of the date of submission of such maps, a description of projected aircraft operations, and the ways in which such operations will affect such maps. The Act requires such maps to be developed in consultation with interested and affected parties in the local community, government agencies, and persons using the airport.

An airport Sponsor who has submitted NEMs that are found by the FAA to be in compliance with the requirements of 14 CFR part 150, promulgated pursuant to the Act, may submit a Noise Compatibility Program (NCP) for FAA approval which sets forth the measures the Sponsor has taken or proposes to take to reduce existing non-compatible uses and prevent the introduction of additional non-compatible uses.

The FAA has completed its review of the NEMs and accompanying documentation submitted by Hillsborough County Aviation Authority. The documentation that constitutes the “NEMs” as defined in 14 CFR 150.7 includes: Final 2021 Existing Conditions Noise Exposure Map (Figure J-1); Final 2026 Future Conditions Noise Exposure Map (Figure J-2); Fixed-Wing Flight Tracks—North Flow (Figure J-3); Fixed-Wing Flight Tracks—South Flow (Figure J-4); Helicopter Flight Tracks—All Flows (Figure J-5); and the Final Noise Exposure Map Report and its appendices. The FAA has determined that these NEMs and accompanying documentation are in compliance with applicable requirements. This determination is effective on April 14, 2022.

FAA's determination on the airport Sponsor's NEMs is limited to a finding that the maps were developed in accordance with the procedures contained in appendix A of 14 CFR part 150. Such determination does not constitute approval of the Sponsor's data, information, or plans, and is not a commitment to approve a NCP or to fund the implementation of that Program. If questions arise concerning the precise relationship of specific properties to noise exposure contours depicted on a NEM submitted under section 47503 of the Act, it should be noted that the FAA is not involved in any way in determining the relative locations of specific properties with regard to the depicted noise exposure contours, or in interpreting the NEMs to resolve questions concerning, for example, which properties should be covered by the provisions of section 47506 of the Act. These functions are inseparable from the ultimate land use control and planning responsibilities of local government and remain unchanged by FAA's NEM compliance determination under 14 CFR part 150. The responsibility for the detailed overlaying of noise exposure contours onto the map depicting properties on the surface rests exclusively with the airport Sponsor that submitted those maps, or with those public agencies and planning agencies with which consultation is required under section 47503 of the Act. The FAA has relied on the certification by the Hillsborough County Aviation Authority, under 14 CFR 150.21, that the statutorily required consultation has been accomplished.

Copies of the full NEM documentation are available for examination by appointment at the following locations:

Federal Aviation Administration: Orlando Airports District Office, 8427 SouthPark Circle, Suite 524, Orlando, Florida 32819.

Tampa International Airport: 4100 George J Bean Pkwy., Tampa, FL 33607.

Direct questions or to arrange an appointment to review the documents to the individual named above under the heading FOR FURTHER INFORMATION CONTACT.

Issued in Orlando, Florida, on April 19, 2022.
Bartholomew Vernace,
Manager, Orlando Airports District Office.

[FR Doc. 2022-08589 Filed 4-21-22; 8:45 am]

BILLING CODE 4910-13-P